DEPARTMENT OF COMMERCE

International Trade Administration

[C-560-806]

Certain Cut-To-Length Carbon-Quality Steel Plate From Indonesia: Notice of Initiation of New Shipper Countervailing Duty Review

AGENCY: Import Administration, International Trade Administration, Department of Commerce.

ACTION: Notice of Initiation of New Shipper Countervailing Duty Review.

SUMMARY: On February 22, 2001, the Department of Commerce (the Department) received a request to conduct a new shipper review of the countervailing duty order on certain cut-to-length carbon-quality steel plate from Indonesia. We are initiating this new shipper review in accordance with section 751(a)(2)(B) of the Tariff Act of 1930, as amended, (the Act), and 19 CFR 351.214(d).

EFFECTIVE DATE: March 27, 2001.

FOR FURTHER INFORMATION CONTACT: Stephanie Moore or Tipten Troidl, Office of AD/CVD Enforcement VI, Group II, Import Administration, U.S. Department of Commerce, 14th Street and Constitution Avenue, NW., Washington, DC 20230; telephone numbers (202) 482-3692 and 482-1767, respectively.

Applicable Statute and Regulations

Unless otherwise indicated, all citations to the Act are references to the provisions effective January 1, 1995, the effective date of the amendments made to the Act by the Uruguay Round Agreements Act. In addition, unless otherwise indicated, all citations to the Department's regulations refer to the regulations codified at 19 CFR part 351 (2000).

SUPPLEMENTARY INFORMATION:

Background

On December 29, 1999, the Department published the final affirmative countervailing duty determination on certain cut-to-length carbon-quality steel plate from Indonesia. See Final Affirmative Countervailing Duty Determination: Certain Cut-to-Length Carbon-Quality Steel Plate from Indonesia, 64 FR 73155. On February 10, 2000, the Department published the countervailing duty order. See Notice of Amended Final Determinations: Certain Cut-to-Length Carbon-Quality Steel Plate from India and the Republic of Korea; and Notice of Countervailing Duty Orders: Certain Cut-To-Length Carbon-Quality Steel Plate from France, India, Indonesia, Italy, and the Republic of Korea, 65 FR 6587. The Department received a request from a cut-to-length carbon-quality steel plate producer and exporter in Indonesia, PT. Gunung Rajapaksi, to conduct a new shipper review of the countervailing duty order on certain cut-to-length carbon-quality steel plate from Indonesia. This request was made pursuant to section 751(a)(2)(B) of the Act and 19 CFR 351.214(b).

Initiation of Review

Pursuant to 19 CFR 351.214(b), in its request of February 1, 2001, PT. Gunung Rajapaksi certified that (1) it did not export the subject merchandise to the United States during the period of investigation (POI) (January 1, 1998 through December 31, 1998) and (2) that, since the investigation was initiated, it has never been affiliated with any exporter or producer who exported the subject merchandise to the United States during the POI. Also, in accordance with 19 CFR 351.214(b)(2), PT. Gunung Rajapaksi submitted documentation establishing (1) the date on which its merchandise was first entered, or withdrawn from warehouse, for consumption in the United States, (2) the volume of that first shipment and (3) the date of its first sale to an unaffiliated customer in the United States. In addition, the company provided a certification stating that it has informed the Government of Indonesia that it will be required to provide a full response to the Department's countervailing duty questionnaire.

In accordance with section 751(a)(2)(B) of the Act and section 351.214(d) of the Department's regulations, we are initiating a new shipper review of the countervailing duty order on certain cut-to-length carbon-quality steel plate from Indonesia. In accordance with 19 CFR 351.214(h)(i), we intend to issue the preliminary results of this review not later than 180 days from the date of publication of this notice. In a countervailing duty proceeding, the standard period of review in a new shipper review is the same as that specified in 19 CFR 351.213(e)(2) for an administrative review. Although the first administrative review of this order covers July 26, 1999 through December 31, 2000, the new shipper, PT. Gunung Rajapaksi, had no shipments prior to January 1, 2000. The Department generally calculates subsidies on a calendar year basis, and PT. Gunung Rajapaksi had no shipments before 2000; therefore, we will review the subsidies received by the company only for calendar year 2000.

Countervailing duty proceeding | Period to be reviewed
Indonesia: Certain Cut-to-Length Carbon-Quality Steel Plate, C-560-806: PT. Gunung Rajapaksi | 01/01/00-12/31/00

Concurrent with publication of this notice, and in accordance with 19 CFR 351.214(e), we will instruct the Customs Service to suspend liquidation of any unliquidated entries of the subject merchandise from the relevant exporter or producer, and to allow, at the option of the importer, the posting of a bond or security in lieu of a cash deposit for each entry of the merchandise exported by the company listed above, until the completion of the review.

Interested parties may submit applications for disclosure under administrative protective order in accordance with 19 CFR 351.305 and 351.306.

This initiation notice is in accordance with section 751(a) of the Act (19 U.S.C. 1675(a)) and 19 CFR 351.214.

Dated: March 19, 2001.
Holly A. Kuga,
Acting Deputy Assistant Secretary for Import Administration, Group II.

[FR Doc. 01-7553 Filed 3-26-01; 8:45 am]

BILLING CODE 3510-DS-P